DEPARTMENT OF HOMELAND SECURITY

U.S. Citizenship and Immigration Services

[OMB Control Number 1615-0075]

Agency Information Collection Activities; Revision of a Currently Approved Collection: Affidavit of Support Under Section 213A of the Act

AGENCY: U.S. Citizenship and Immigration Services, Department of Homeland Security.

ACTION: 30-Day notice.

SUMMARY: The Department of Homeland Security (DHS), U.S. Citizenship and Immigration Services (USCIS) will be submitting the following information collection request to the Office of Management and Budget (OMB) for review and clearance in accordance with the Paperwork Reduction Act of 1995. The purpose of this notice is to allow an additional 30 days for public comments.

DATES: Comments are encouraged and will be accepted until May 11, 2020.

ADDRESSES: All submissions received must include the OMB Control Number 1615-0075 in the body of the letter, the agency name and Docket ID USCIS-2007-0029. Submit comments via the Federal eRulemaking Portal website at http://www.regulations.gov under e-Docket ID number USCIS-2007-0029.

FOR FURTHER INFORMATION CONTACT: USCIS, Office of Policy and Strategy, Regulatory Coordination Division, Samantha Deshommes, Chief, Telephone number (202) 272-8377 (This is not a toll-free number; comments are not accepted via telephone message.). Please note contact information provided here is solely for questions regarding this notice. It is not for individual case status inquiries. Applicants seeking information about the status of their individual cases can check Case Status Online, available at the USCIS website at http://www.uscis.gov, or call the USCIS Contact Center at (800) 375-5283; TTY (800) 767-1833.

SUPPLEMENTARY INFORMATION:

Reasons for Changes

An Affidavit of Support Under Section 213A of the INA (Affidavit) is required for most family-sponsored immigrants and some employment-based immigrants. See INA section 212(a)(4) and INA section 213A. By executing an Affidavit, a sponsor is creating a contract between the sponsor and the U.S. Government. Under the contract, the sponsor agrees that he or she will: (1) Provide support to the sponsored immigrant at an annual income of, in most cases, not less than 125 percent of the Federal poverty line during the period the support obligation is in effect; (2) to be jointly and severally liable for any reimbursement obligation incurred as a result of the sponsored immigrant receiving any means-tested public benefits during the period the obligation is in effect; and (3) to submit to the jurisdiction of any Federal or State court for the purpose of enforcing any of the support obligation under INA section 213A.

On May 23, 2019, President Trump issued the Memorandum on Enforcing the Legal Responsibilities of Sponsors of Aliens (Presidential Memo). See https://www.whitehouse.gov/presidential-actions/memorandum-enforcing-legal-responsibilities-sponsors-aliens. The Presidential Memo states that a “key priority of [the] Administration is restoring the rule of law by ensuring that existing immigration laws are enforced” and emphasized that sponsors who pledge to financially support sponsored aliens are expected to fulfill their commitment under the law.

As part of this revision, and in furtherance of the Presidential Memo, USCIS has made changes to better inform sponsors and household members of their support obligations and better ensure the support obligations, as agreed to by completing and signing the Form I-864, Form I-864EZ, or Form I-864A, will be met.

Changes to the Form I-864 and Form I-864EZ include collection of bank account information from sponsors, information about previously submitted Affidavits, and optional submission of a credit report as evidence. Language throughout the forms was modified to ensure greater clarity regarding the sponsor's obligations. USCIS also added additional language under the `Sponsor's Certification' section of the forms further outlining the sponsor's obligations and the consequences of submitting Form I-864 and Form I-864EZ.

Changes to Form I-864A include collection of bank account information from household members and optional submission of a credit report as evidence. USCIS also added additional language under the `Sponsor's Certification' section, plus the `Household Member's Contract, Statement, and Certification' section of the form further outlining the sponsor's and household member's obligations and the consequences of submitting Form I-864A. USCIS further added a separate interpreter and preparer section for the sponsor on Form I-864A.

USCIS will now also require that Form I-864, Form I-864EZ, and Form I-864A be notarized prior to submission to the agency.

USCIS has made changes to the Instructions for Form I-864, Form I-864EZ, and Form I-864A adding language to more thoroughly explain the purpose of the forms, the sponsor's and household member's obligations as a result of the forms being accepted by USCIS as sufficient and the support obligations taking effect, and the consequences if the support obligations are not met. The requirements regarding which children immigrating based on adoption need to submit a Form I-864 executed on their behalf is now outlined in greater detail; which of these children can have a sponsor execute a Form I-864EZ on their behalf is also outlined in greater detail. USCIS also added a section to list and explain the eligibility requirements for being a sponsor. Language explaining the age limitations for spousal relationships involving a minor was also added.

The regulations governing the Affidavit are provided in 8 CFR 213a and will not be changed by this form change.

Comments

The information collection notice was previously published in the Federal Register on October 15, 2019, at 84 FR 55167, allowing for a 60-day public comment period. USCIS did receive five comment(s) in connection with the 60-day notice.

You may access the information collection instrument with instructions, or additional information by visiting the Federal eRulemaking Portal site at: http://www.regulations.gov and enter USCIS-2007-0029 in the search box. The comments submitted to USCIS via this method are visible to the Office of Management and Budget, and comply with the requirements of 5 CFR 1320.12(c). All submissions will be posted, without change, to the Federal eRulemaking Portal at http://www.regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of http://www.regulations.gov.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection Request: Revision of a Currently Approved Collection.

(2) Title of the Form/Collection: Affidavit of Support Under Section 213A of the Act, Form I-864; Contract Between Sponsor and Household Member, Form I-864A; Affidavit of Support Under Section 213 of the Act, I-864EZ.

(3) Agency form number, if any, and the applicable component of the DHS sponsoring the collection: Form I-864; Form I-864EZ; Form I-864A; USCIS.

(4) Affected public who will be asked or required to respond, as well as a brief abstract: Primary: USCIS uses the data collected on Form I-864 to determine whether the sponsor has the means to support the sponsored alien under section 213A of the INA (8 U.S.C. 1183a) and for administrative purposes that better ensure the sponsor will meet the support obligations as agreed to by execution of the Form I-864 (including, but not limited to, reimbursing public benefit agencies for means-tested public benefits received by the sponsored immigrant while the support obligation was in effect). This form standardizes evaluation of whether the individual executing the Affidavit of Support meets the definition of a sponsor, can demonstrate the means to maintain income at the required income threshold, and otherwise meets the requirements of section 213A of the INA (8 U.S.C. 1183a), and ensures that basic information required to assess eligibility is provided by sponsors.

Form I-864A is a contract between the sponsor and the sponsor's household members. It is only used if the sponsor intends to use the income of his or her household members to reach the required 125 percent of the Federal poverty guidelines income threshold (or 100 percent when applicable). The contract holds these household members jointly and severally liable for the support of the sponsored immigrant(s) specified on the Form I-864A. USCIS uses the data collected on Form I-864A in conjunction with a Form I-864, to determine whether the sponsor can demonstrate the means to maintain income at the required income threshold under section 213A of the Immigration and Nationality Act, when the sponsor's income is combined with the household member(s)' income and for administrative purposes that better ensure the household member will meet the support obligations as agreed to by the household member in the Form I-864A (including, but not limited to, reimbursing public benefit agencies for means-tested public benefits received by the sponsored immigrant while the support obligation was still in effect).

USCIS uses Form I-864EZ in exactly the same way as Form I-864; however, USCIS collects less information from the sponsors as the Form I-864EZ is a shorter version of Form I-864, designed for execution by sponsors that meet certain criteria.

(5) An estimate of the total number of respondents and the amount of time estimated for an average respondent to respond: The estimated total number of respondents for the information collection Form I-864 is 446,313 and the estimated hour burden per response is 6.5 hours; the estimated total number of respondents for the information collection Form I-864A is 42,892 and the estimated hour burden per response is 2.25 hours; the estimated total number of respondents for the information collection Form I-864EZ is 114,860 and the estimated hour burden per response is 3 hours.

(6) An estimate of the total public burden (in hours) associated with the collection: The total estimated annual hour burden associated with this collection is 3,342,122 hours.

(7) An estimate of the total public burden (in cost) associated with the collection: The estimated total annual cost burden associated with this collection of information is $137,487,385.

Dated: April 6, 2020.
Samantha L Deshommes,
Chief, Regulatory Coordination Division, Office of Policy and Strategy, U.S. Citizenship and Immigration Services, Department of Homeland Security.

[FR Doc. 2020-07543 Filed 4-9-20; 8:45 am]

BILLING CODE 9111-97-P